DEPARTMENT OF HEALTH AND HUMAN SERVICES

Agency for Healthcare Research and Quality

Agency Information Collection Activities: Proposed Collection; Comment Request

AGENCY: Agency for Healthcare Research and Quality, HHS.

ACTION: Notice.

SUMMARY: Through this Request for Information (RFI), the Agency for Healthcare Research and Quality (AHRQ) is seeking information from the public, hospitals and other health care organizations, clinicians, quality improvement experts, researchers, and quality measure developers about current use of the AHRQ Quality Indicators (AHRQ QIs) for quality improvement efforts. AHRQ recognizes that the AHRQ QIs have been adopted for other uses, but for the purpose of this RFI, the Agency is specifically seeking information about quality improvement initiatives such as those that seek to: Improve clinical practice (e.g., adherence to guidelines, coordination of care); improve patient safety or reduce harm; address disparities in health or care; improve prevention practices; and collaborate with community groups to improve health or care. AHRQ is also seeking information about the ways in which the Agency can increase use of the AHRQ QI measures for quality improvement, for example by refining measures, summarizing best practices, creating training materials, developing standardized metrics, and/or convening learning networks. To learn more about the AHRQ QIs, visit https://www.qualityindicators.ahrq.gov/.

DATES: Comments on this notice must be received by the deadline on or before March 8, 2018.

ADDRESSES: Written comments should be submitted to: Maushami DeSoto, Ph.D., MHA, Health Scientist Administrator, Center for Delivery Organization and Markets, Agency for Healthcare Research and Quality, 5600 Fishers Lane, Rockville, MD 20857, or by email at Maushami.Desoto@ahrq.hhs.gov.

FOR FURTHER INFORMATION CONTACT: Maushami DeSoto, Ph.D. MHA, Health Scientist Administrator, (301) 427-1546, or by emails at Maushami.Desoto@ahrq.hhs.gov.

SUPPLEMENTARY INFORMATION: The mission of AHRQ is to produce evidence to make health care safer; higher quality; and more accessible, equitable, and affordable. AHRQ works within the U.S. Department of Health and Human Services and with other public and private partners to make sure that the evidence is understood and used. The Agency fulfills this mission by supporting and conducting research; generating needed evidence; disseminating proven practices; creating and distributing training materials for health care systems and professionals; and developing measures and data used to track and improve performance. To learn more about the Agency, visit https://www.ahrq.gov/.

Background

Over the years, use of the AHRQ QIs has evolved. Originally developed to support quality improvement at the hospital and community levels, the AHRQ QIs now serve several additional purposes including: (1) Research; (2) needs assessments for planning at the local, state, and national levels; and (3) performance assessment by private and public value-based payment and consumer choice programs. In the current context, in which the purposes and methods of measurement continue to change rapidly, AHRQ is seeking updated information to inform its own planning and priority setting for future work in the area of measures for quality improvement. To do so, AHRQ must define evidence criteria that are specific to quality improvement and use those criteria to determine which AHRQ QIs work best for quality improvement and how they can be improved for that purpose.

As part of this effort, AHRQ is conducting a literature review and environmental scan to: (1) Document knowledge and evidence on the scientific acceptability of the AHRQ QIs for quality improvement; (2) document and synthesize information about the strengths and limitations of the AHRQ QIs; (3) identify areas of disagreement, if any, in the evidence; and (4) develop suggestions for refinement or improvement in the indicators, particularly those that make the AHRQ QIs more useful for quality improvement. As part of the environmental scan, AHRQ is issuing this RFI to obtain information from stakeholders who have not published their experiences using the AHRQ QIs or who wish to provide additional information beyond what they have published. AHRQ will review results from the literature review and environmental scan and release a summary report in December 2018.

Specific questions of interest to the Agency include, but are not limited to:

For Hospitals or Other Health Care Entities That CURRENTLY USE AHRQ QIs for Quality Improvement:

1. What type of organization do you represent?

2. How does your organization define quality improvement?

3. How does your organization use the AHRQ QIs for quality improvement? For example, do you use them for identifying patient safety problems, identifying quality improvement opportunities, and/or tracking performance over time?

4. Which specific AHRQ QIs does your organization use for quality improvement? Please include the number of each QI, for example, PQI 05, which can be found at the AHRQ QI website.

5. Have you stopped using an AHRQ QI for quality improvement? If yes, please identify it and explain why you stopped.

6. Of the AHRQ QIs you use now or used previously, which ones have been most valuable in improving quality?

a. What are the strengths of each measure you have used?

b. What are the weaknesses of each measure you have used?

7. What other methodological and/or data quality issues have you encountered when using AHRQ QIs for quality improvement that you haven't already mentioned?

8. Does your organization use measures other than the AHRQ QIs for quality improvement? If yes, which ones and what types of quality improvement initiatives does your organization use them for? How do they compare to the AHRQ QIs in terms of ease of use and impact on quality?

9. What changes and refinements to the AHRQ QIs would make them easier to use for quality improvement?

10. What changes and refinements to the AHRQ QIs would make them more effective for improving quality?

11. What resources would aid the uptake of the AHRQ QIs for quality improvement?

12. What improvements are needed to current AHRQ QI resources? These include resources available through the QI website such as tool kits, case studies, webinars, presentations, publication lists, video tutorials (WinQI and SASQI), measure technical specifications (IQI, PQI, PSI, PDI), TA support, FAQs, and software.

13. If you operate a community health center, which AHRQ QIs do you use for quality improvement in the community health center? Which other measures do you use for quality improvement in the community health center?

14. If you operate a hospital emergency department (ED), which AHRQ QIs do you use for quality improvement in the ED? Which other measures do you use for quality improvement in the ED?

For Hospitals or Other Health Care Entities That Are NOT CURRENTLY USING Any AHRQ QIs for Quality Improvement:

15. How does your organization define quality improvement?

16. What types of quality improvement initiatives does your organization engage in?

17. Have you heard of the AHRQ QIs? If yes, what do you know about them?

18. What factors contribute to your organization's decision to not use the AHRQ QIs?

19. Has your organization used the AHRQ QIs in the past? If so, why is your organization no longer using them?

20. What measures does your organization use for quality improvement? What are some of the reasons/factors your organization uses these measures?

21. If you operate a community health center, which measures do you use for quality improvement?

22. If you operate a hospital emergency department (ED), which measures do you use for quality improvement?

23. If your organization is a community health center, which metrics do you use for quality improvement?

24. If your organization is an ED which metrics do you use for quality improvement and monitoring?

AHRQ is interested in all the questions listed above, but respondents are welcome to address as many or as few as they choose and to address additional areas of interest not listed. AHRQ will use the information it receives to assist in developing future initiatives. These initiatives may include, but are not limited to, developing research grant and contracting opportunities, investing in the creation of tools and training materials for health professionals and health care delivery organizations, developing quality improvement measures, and/or convening learning collaboratives.

Health care professionals and organizations are encouraged to respond to this RFI by submitting a written statement and supporting explanatory materials to the email or mailing address listed above by February 28, 2018. Supporting materials might include charters for quality and safety improvement committees, data use agreements for learning collaboratives, population health metrics and reports, or guidelines for the use of evidence-based practices. When responding to questions listed above, please clearly indicate the number of the question that is being addressed. AHRQ encourages respondents to include a description of their health care delivery organization at the beginning of their response to provide context for the information they provide.

Request for Comments

This RFI is for planning purposes only and should not be construed as a policy, solicitation for applications, or as an obligation on the part of the Government to provide support for any ideas identified in response to it. AHRQ will use the information submitted in response to this RFI at its discretion and will not provide comments to any responder's submission. However, responses to the RFI may be reflected in future solicitation(s) or policies. The information provided will be analyzed and may appear in reports. Respondents will not be identified in any published reports. Respondents are advised that the Government is under no obligation to acknowledge receipt of the information received or provide feedback to respondents with respect to any information submitted. No proprietary, classified, confidential, or sensitive information should be included in your response. The Government reserves the right to use any non-proprietary technical information in any resultant solicitation(s). The contents of all submissions will be made available to the public upon request. Materials submitted must be publicly available or can be made public.

Gopal Khanna,
Director.

[FR Doc. 2018-03243 Filed 2-15-18; 8:45 am]

BILLING CODE 4160-90-P